DEPARTMENT OF HOMELAND SECURITY

Federal Emergency Management Agency

[Docket ID FEMA-2015-0001; Internal Agency Docket No. FEMA-B-1510]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 4, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1510, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: April 22, 2015.
Roy E. Wright,
Deputy Associate Administrator for Mitigation, Department of Homeland Security, Federal Emergency Management Agency.

Community | Community map repository address
Lee County, Florida, and Incorporated Areas
Maps Available for Inspection Online at: http://www.fema.gov/preliminaryfloodhazarddata
City of Fort Myers | Development Department, 1825 Hendry Street, Suite 101, Fort Myers, FL 33901.
Unincorporated Areas of Prince Lee County | Development Department, 1500 Monroe Street, Second Floor, Fort Myers, FL 33901.
Prince George's County, Maryland, and Incorporated Areas
Maps Available for Inspection Online at: http://www.fema.gov/preliminaryfloodhazarddata
City of Laurel | Municipal Center, 8103 Sandy Spring Road, Laurel, MD 20707.
Unincorporated Areas of Prince George's County | Prince George's County Department of Environmental Resources, 9400 Peppercorn Place, Suite 610, Largo, MD 20774.
Lycoming County, Pennsylvania (All Jurisdictions)
Maps Available for Inspection Online at: http://www.fema.gov/preliminaryfloodhazarddata
Borough of Hughesville | Borough Office, 147 South 5th Street, Hughesville, PA 17737.
Borough of Jersey Shore | Borough Office, 232 Smith Street, Jersey Shore, PA 17740.
Borough of Montgomery | Borough Hall, 35 South Main Street, Montgomery, PA 17752.
Borough of Montoursville | Borough Hall, 617 North Loyalsock Avenue, Montoursville, PA 17754.
Borough of Muncy | Borough Hall, 14 North Washington Street, Muncy, PA 17756.
Borough of Picture Rocks | Borough Building, 113 North Main Street, Picture Rocks, PA 17762.
Borough of Salladasburg | 145 Blackhorse Alley, Salladasburg, PA 17740.
Borough of South Williamsport | Borough Building, 329 West Southern Avenue, South Williamsport, PA 17702.
City of Williamsport | City Hall, 245 West 4th Street, Williamsport, PA 17701.
Township of Anthony | Anthony Township Building, 402 Dutch Hill Road, Cogan Station, PA 17725.
Township of Armstrong | Armstrong Township Building, 502 Waterdale Road, Williamsport, PA 17702.
Township of Bastress | Bastress Township Building, 518 Cold Water Town Road, Williamsport, PA 17701.
Township of Brady | Brady Township Building, 1986 Elimsport Road, Montgomery, PA 17752.
Township of Brown | 18254 Route 414 Highway, Cedar Run, PA 17727.
Township of Cascade | Cascade Township Building, 1456 Kellyburg Road, Trout Run, PA 17771.
Township of Clinton | Clinton Township Building, 2106 State Route 54, Montgomery, PA 17752.
Township of Cogan House | Cogan House Township Building, 4609 Route 184 Highway, Trout Run, PA 17771.
Township of Cummings | Cummings Township Building, 10978 Route 44, Waterville, PA 17776.
Township of Eldred | Eldred Township Fire Company Building, 5558 Warrensville Road, Montoursville, PA 17754.
Township of Fairfield | Fairfield Township Building, 834 Fairfield Church Road, Montoursville, PA 17754.
Township of Franklin | Franklin Township Building, 61 Schoolhouse Lane, Lairdsville, PA 17742.
Township of Gamble | Gamble Township Building, 17 Beech Valley Road, Trout Run, PA 17771.
Township of Hepburn | Hepburn Township Office, 615 State Route 973 East Highway, Cogan Station, PA 17728.
Township of Jackson | Jackson Township Building, 3809 Williamson Trail, Liberty, PA 16930.
Township of Jordan | Jordan Township Building, 4298 Route 42 Highway, Unityville, PA 17774.
Township of Lewis | Lewis Township Building, 69 Main Street, Trout Run, PA 17771.
Township of Limestone | Limestone Township Building, 6253 South Route 44 Highway, Jersey Shore, PA 17740.
Township of Loyalsock | Loyalsock Township Building, 2501 East 3rd Street, Williamsport, PA 17701.
Township of Lycoming | Lycoming Township Municipal Building, 328 Dauber Road, Cogan Station, PA 17728.
Township of McHenry | McHenry Township Community Center, 145 Railroad Street, Cammal, PA 17723.
Township of McIntyre | McIntyre Township Building, 10975 Route 14, Ralston, PA 17763.
Township of McNett | McNett Township Building, 1785 Yorktown Road, Roaring Branch, PA 17765.
Township of Mifflin | Mifflin Township Building, 106 First Fork Road, Jersey Shore, PA 17740.
Township of Mill Creek | Mill Creek Township Building, 2063 Woodley Hollow Road, Montoursville, PA 17754.
Township of Moreland | Moreland Township Building, 1220 Moreland Township Road, Muncy, PA 17756.
Township of Muncy | Muncy Fire Hall, 1922 Pond Road, Pennsdale, PA 17756.
Township of Muncy Creek | Muncy Creek Township Building, 575 Route 442 Highway, Muncy, PA 17756.
Township of Old Lycoming | Old Lycoming Township Municipal Office, 1951 Green Avenue, Williamsport, PA 17701.
Township of Penn | Penn Township Building, 4600 Beaver Lake Road, Hughesville, PA 17737.
Township of Piatt | Piatt Township Building, 9687 North Route 220 Highway, Jersey Shore, PA 17740.
Township of Pine | Pine Township Building, 925 Oregon Hill Road, Morris, PA 16938.
Township of Plunketts Creek | Plunketts Creek Township Building, 179 Dunwoody Road, Williamsport, PA 17701.
Township of Porter | Porter Township Building, 5 Shaffer Lane, Jersey Shore, PA 17740.
Township of Shrewsbury | Shrewsbury Township Building, 143 Point Bethel Road, Hughesville, PA 17737.
Township of Susquehanna | Susquehanna Township Office Building, 91 East Village Drive, Williamsport, PA 17702.
Township of Upper Fairfield | Upper Fairfield Township Building, 4090 Route 87 Highway, Montoursville, PA 17754.
Township of Washington | Washington Township Building, 15973 South Route 44 Highway, Allenwood, PA 17810.
Township of Watson | Watson Township Building, 4635 North State Route, Jersey Shore, PA 17740.
Township of Wolf | Wolf Township Building, 695 Route 405 Highway, Hughesville, PA 17737.
Township of Woodward | Woodward Township Building, 4910 South Route 220 Highway, Linden, PA 17744.
San Patricio County, Texas, and Incorporated Areas
Maps Available for Inspection Online at: http://www.fema.gov/preliminaryfloodhazarddata
City of Aransas Pass | City Hall, 600 West Cleveland Boulevard, Aransas Pass, TX 78336.
City of Gregory | City Hall, 204 West 4th Street, Gregory, TX 78359.
City of Ingleside | City Hall Annex, 2665 San Angelo Street, Ingleside, TX 78362.
City of Ingleside On The Bay | Ingleside On The Bay City Hall, 475 Starlight Drive, Ingleside, TX 78362.
City of Lake City | City Hall, 132 Cox Drive, Lake City, TX 78368.
City of Lakeside | Community Center, 101 Weber Lane, Lakeside, TX 78368.
City of Mathis | City Hall, 411 East San Patricio Avenue, Mathis, TX 78368.
City of Odem | City Hall, 514 Voss Avenue, Odem, TX 78370.
City of Portland | Public Works, 1101 Moore Drive, Portland, TX 78374.
City of San Patricio | City Hall, 4516 Main Street, San Patrio, TX 78368.
City of Sinton | City Hall, 301 East Market Street, Sinton, TX 78387.
City of Taft | City Hall, 501 Green Avenue, Taft, TX 78390.
Unincorporated Areas of San Patricio County | San Patricio County Civic Center, 219 West 5th Street, Sinton, TX 78387.

[FR Doc. 2015-10537 Filed 5-5-15; 8:45 am]

BILLING CODE 9110-12-P